DEPARTMENT OF HEALTH AND HUMAN SERVICES

Indian Health Service

“Closing the Health Gap”—Sudden Infant Death Syndrome and Infant Mortality Initiative

AGENCY: Indian Health Service, HHS.

ACTION: Notice of Intent to Award for Single Source Award with the Aberdeen Area Tribal Chairman's Health Board Northern Plains Healthy Start Project.

Recipient: Aberdeen Tribal Chairman's Health Board Northern Plains Healthy Start Project.

Purpose of the Award: The Indian Health Service (IHS) announces an award for single source award as established under the authority of Section 301(a) of the Public Health Service Act, as amended. The single source award is to support the Aberdeen Area Indian Health Service tribal organization, not the IHS. The Aberdeen Area Tribal Chairman's Health Board and its program the Northern Plains Healthy Start Project (NPHSP) meet the eligibility criteria for CFDA 93.933 as a demonstration project for the expressed purpose of promoting and improving health and health care services in tribal communities. The award is part of a larger Office of Minority Health initiative entitled “Closing the Health Gap” with the expressed purpose of addressing elevated infant mortality, a known health disparity for American Indians and Alaska Natives. NPHSP has been in existence for twelve years. Increased emphasis will be placed on case management and community measures to address maternal and infant health promotion and reduction of risk factors associated with sudden Infant Death Syndrome and infant mortality (SIDS/IM).

Amount of Award: $450,000 in funds will be awarded.

Project Period: There will be only one funding cycle during Fiscal Year (FY) 2004. The project will be funded in annual budget periods for up to three years depending on the defined scope of work. Continuation of the project will be based on the availability of appropriations in future years, the continuing need the IHS has for the projects, and satisfactory project performance. The Project period will run from October 1, 2004 to September 30, 2007.

Justification for the Exception to the Competition: The IHS Area with the highest IMR and SIDS rates is the Aberdeen Area. This Area includes Tribes situated in the states of Iowa, Nebraska, North Dakota and South Dakota. The Aberdeen Area Tribal Chairman's Health Board maintains a 501(c)3 status and is comprised of representatives of eighteen Tribes, sixteen of which participate in the NPHSP. NPHSP is a program within the Aberdeen Tribal Chairman's Health Board and operates in the four states. The project consists of home based interventions in the form of case management to high risk prenatal American Indian women. NPHSP has served targeted perinatal populations and their families and communities for twelve years. No other tribal program representing such a broad consortia exists. General long-term program goals of the Northern Plains Health Start Project are in alignment with those of the Office of Minority Health “Closing the Health Gap—SIDS/IMR Initiative.”

Agency Contacts: For program information, contact: Judith Thierry, D.O., Maternal and Child Health Coordinator, Office of Public Health, IHS, 801 Thompson Avenue, Suite 300, Rockville, Maryland 20852; (301) 443-5070; jthierry@na.ihs.gov; or (301) 594-6213 (fax). For grant and business information, contact Ms. Martha Redhouse, Grants Management Specialist, Division of Grants Policy, IHS, 801 Thompson Avenue, Suite 120, Rockville, MD 20852; (301) 443-5204. (The telephone numbers for Dr. Thierry and Ms. Redhouse are not toll-free).

Dated: September 24, 2004.
Robert G. McSwain,
Acting Deputy Director for Management Operations, Indian Health Service.

[FR Doc. 04-21891 Filed 9-29-04; 8:45 am]

BILLING CODE 4160-16-M